DEPARTMENT OF AGRICULTURE

Forest Service

Del Norte County Resource Advisory Committee

AGENCY: Forest Service, Agriculture (USDA).

ACTION: Notice of meeting.

SUMMARY: The Del Norte County Resource Advisory Committee (RAC) will hold a public meeting according to the details shown below. The committee is authorized under the Secure Rural Schools and Community Self-Determination Act (the Act) and operates in compliance with the Federal Advisory Committee Act. The purpose of the committee is to improve collaborative relationships and to provide advice and recommendations to the Forest Service concerning projects and funding consistent with Title II of the Act, as well as make recommendations on recreation fee proposals for sites on the Six Rivers National Forest within Del Norte County, consistent with the Federal Lands Recreation Enhancement Act.

DATES: An in-person and virtual meeting will be held on October 22, 2024, 6 p.m. to 8 p.m. Pacific Daylight Time.

Written and Oral Comments: Anyone wishing to provide in-person or virtual oral comments must pre-register by 11:59 p.m. Pacific Daylight Time on October 16, 2024. Written public comments will be accepted by 11:59 p.m. Pacific Daylight Time on October 16, 2024. Comments submitted after this date will be provided by the Forest Service to the committee, but the committee may not have adequate time to consider those comments prior to the meeting.

All committee meetings are subject to cancellation. For status of the meeting prior to attendance, please contact the person listed under FOR FURTHER INFORMATION CONTACT.

ADDRESSES: This meeting will be held in-person at the Gasquet Ranger District Office, located at 10600 Highway 199 in Gasquet, California 95543. The public may also join virtually via videoconference. Committee information and details about the meeting, including a link to access the meeting, can be found on the advisory committee website at https://www.fs.usda.gov/detail/srnf/workingtogether/advisorycommittees/?cid=fseprd935605 or by contacting the person listed under FOR FURTHER INFORMATION CONTACT.

Written Comments: Written comments must be sent by email to paul.senyszyn@usda.gov or via mail (postmarked) to Six Rivers National Forest, Gasquet Ranger District, Attn: RAC Coordinator, 10600 Highway 199, Gasquet, CA 95543. The Forest Service strongly prefers comments be submitted electronically.

Oral Comments: Persons or organizations wishing to make oral comments must pre-register by 11:59 p.m. Pacific Daylight Time, October 8, 2024, and speakers can only register for one speaking slot. A request to make oral comments must be sent by email to paul.senyszyn@usda.gov or via mail (postmarked) to Six Rivers National Forest, Gasquet Ranger District, Attn: RAC Coordinator, 10600 Highway 199, Gasquet, CA 95543.

FOR FURTHER INFORMATION CONTACT: Kathy Allen, Designated Federal Officer, by phone at 707-457-3131 or email at kathy.m.allen@usda.gov@usda.gov; or Ben Littlefield, RAC Coordinator, by phone at 707-298-5116 or email at benjamin.littlefield@usda.gov.

SUPPLEMENTARY INFORMATION: The purpose of the meeting is to:

1. Hear from Title II project proponents and discuss Title II project proposals;

2. Make funding recommendations on Title II projects.

The agenda will include time for individuals to make oral comments of three minutes or less. Individuals wishing to make oral comments should make a request in writing at least 3 days prior to the meeting date to be scheduled on the agenda. Written comments may be submitted to the Forest Service up to 14 days after the meeting date listed under DATES.

Please contact the person listed under FOR FURTHER INFORMATION CONTACT, by or before the deadline, for all questions related to the meeting. All comments, including names and addresses when provided, are placed in the record and are available for public inspection and copying. The public may inspect comments received upon request.

Meeting Accommodations: The meeting location is compliant with the Americans with Disabilities Act, and the USDA provides reasonable accommodation to individuals with disabilities where appropriate. If you are a person requiring reasonable accommodation, please make requests in advance for sign language interpretation, assistive listening devices, or other reasonable accommodation to the person listed under the FOR FURTHER INFORMATION CONTACT section or contact USDA's TARGET Center at (202) 720-2600 (voice and TTY) or USDA through the Federal Relay Service at (800) 877-8339. Additionally, program information may be made available in languages other than English.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the committee. To ensure that the recommendations of the committee have taken in account the needs of the diverse groups served by USDA, membership shall include, to the extent practicable, individuals with demonstrated ability to represent the many communities, identities, races, ethnicities, backgrounds, abilities, cultures, and beliefs of the American people, including underserved communities. USDA is an equal opportunity provider, employer, and lender.

Dated: September 27, 2024.
Cikena Reid,
USDA Committee Management Officer.

[FR Doc. 2024-22660 Filed 10-1-24; 8:45 am]

BILLING CODE 3411-15-P